DEPARTMENT OF COMMERCE

Foreign-Trade Zones Board

[B-34-2019]

Foreign-Trade Zone (FTZ) 29—Louisville, Kentucky; Authorization of Production Activity; LLFlex, LLC; (Aluminum and Steel Cable Wraps); Louisville, Kentucky

On May 1, 2019, LLFlex, LLC submitted a notification of proposed production activity to the FTZ Board for its facility within FTZ 29, in Louisville, Kentucky.

The notification was processed in accordance with the regulations of the FTZ Board (15 CFR part 400), including notice in the Federal Register inviting public comment (84 FR 21326, May 14, 2019). On August 29, 2019, the applicant was notified of the FTZ Board's decision that no further review of the activity is warranted at this time. The production activity described in the notification was authorized, subject to the FTZ Act and the FTZ Board's regulations, including § 400.14.

Dated: August 29, 2019.
Andrew McGilvray,
Executive Secretary.

[FR Doc. 2019-19176 Filed 9-4-19; 8:45 am]

BILLING CODE 3510-DS-P